DEPARTMENT OF ENERGY

Federal Energy Regulatory Commission

[ Docket No. PL04-3-000]

Natural Gas Interchangeability; Notice of Public Conference

January 15, 2004.

1. The Federal Energy Regulatory Commission (FERC) will hold a conference on February 18, 2004, to engage industry members and the public in a dialogue about policy issues arising from natural gas interchangeability.¹ On October 14, 2003, the Commission held a technical conference on the findings and recommendations contained in the National Petroleum Council's report: Balancing Natural Gas Policy—Fueling the Demands of a Growing Economy.² The Summary Report recommended that the natural gas interchangeability standards be updated: “FERC and DOE should champion the new standards effort to allow a broader range of LNG [liquefied natural gas] imports. This should be conducted with participation from LDCs [local distribution companies], LNG purchasers, process gas users, and original equipment manufacturers (OEMs).” ³ In addition, the Commission has dealt with gas quality and interchangeability issues in several recent cases, and others are pending.⁴ These cases will not be the subject of the technical conference nor will discussion of them be entertained, due to ex parte considerations. Nevertheless, as a result of the NPC recommendation and concerns about gas interchangeability raised in pending proceedings, it is clear that the Commission needs more information in order to evaluate what role, if any, it should prepare to take to address the impacts of natural gas interchangeability on the nation's energy consumers and the companies regulated by the Commission.

¹ As used by the gas industry, “interchangeability” means the extent to which a substitute gas can replace gas normally used by a customer without unduly interfering with the operation of the customer's natural gas equipment. See Cove Point LNG Limited Partnership, 97 FERC ¶ 61,043 (2001) at 61,197.

² The National Petroleum Council is an oil and natural gas advisory committee to the Secretary of Energy.

³ National Petroleum Council, Balancing Natural Gas Policy: Fueling the Demands of a Growing Economy, Volume I, Summary of Findings and Recommendations, September 2003, p. 64.

⁴ See Toca Producers v. Southern Natural Gas Company, 104 FERC ¶ 61,300 (2003), and Natural Gas Pipeline Company of America, 104 FERC ¶ 61,322 (2003).

2. An agenda detailing the matters to be addressed and identifying speakers will be issued in the near future. In addition to direct presentations, the Commission will provide an open forum that will give all interested individuals an opportunity to respond to the presentations or present other views on the issues discussed.

3. The conference will be held on February 18, 2004, at FERC, 888 First Street, NE., in Washington, DC beginning at 9:30 a.m. in the Commission Meeting Room. The public is invited to attend. For further information about the conference, please call or e-mail Andrea Hilliard (202-502-8288; andrea.hilliard@ferc.gov) or Ed Murrell (202-502-8703; ed.murrell@ferc.gov).

4. The Capitol Connection offers the opportunity for remote listening and viewing of the conference. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC.”

Magalie R. Salas,
Secretary.

[FR Doc. E4-103 Filed 01-23-04; 8:45 am]

BILLING CODE 6717-01-P